DEPARTMENT OF TRANSPORTATION

Federal Highway Administration

Environmental Impact Statement: Hunterdon County, NJ

AGENCY: Federal Highway Administration (FHWA), DOT.

ACTION: Notice of Intent.

SUMMARY: The FHWA is issuing this notice to advise the public that an environmental impact statement (EIS) will be prepared for a proposed highway project in Hunterdon County, New Jersey.

FOR FURTHER INFORMATION CONTACT: Tanya Emam, Engineering Coordinator, Federal Highway Administration, New Jersey Division Office, 840 Bear Tavern Road, Suite 310, West Trenton, NJ 08628-1019, Telephone: (609) 637-4200.

SUPPLEMENTARY INFORMATION: The FHWA, in cooperation with the New Jersey Department of Transportation (NJDOT), will prepare an EIS on a proposed action to construct the South Branch Parkway in Hunterdon County, New Jersey, Federal Project No. HPP-0037(139). The proposed project will consist of the construction of a limited access highway on new location for a distance of approximately 3.7 miles. The parkway would extend from a proposed intersection at Voorhees Corner Road, northward to a proposed intersection at existing Route 31, at a point approximately 0.5 mile north of the existing intersection of Route 31 and Bartles Corner Road.

The purpose of the South Branch Parkway is to provide an alternative to Route 31 for north-south travel through the Flemington-Raritan area and increase overall connectivity with the local roadway network; to reduce congestion on existing Route 31 to facilitate movement of both local and regional traffic; to provide the initial investment in a long-term Integrated Land Use and Transportation Plan that effectively shapes existing and future development into a land-use pattern that does not increase demand beyond the State highway system's roadway capacity; and to lead to a more balanced transportation network and land use patterns that decrease reliance on the automobile and encourage pedestrian and bicycle travel through the area. The selected transportation solution will represent a long-term, cost-effective capital investment consistent with Smart Growth principles.

Alternatives under consideration include: (1) Taking no action; and (2) constructing a new two-lane, limited access highway as described above. This alternative includes a multi-use bicycle/pedestrian path along the length of the parkway; an optional center grass median; two options for a minor shift in the southern terminus location; and analysis of proposed intersections and roundabouts throughout the project length.

Input for further defining the purpose and need for the proposed project, and range of alternatives under consideration, will be accomplished via the following: In October 2006, a Public Officials Briefing (POB) and a Public Information Center (PIC) were held within the project area to update local stakeholders regarding the project status and to elicit early commentary. In the near future, letters describing the proposed action and soliciting comments will be sent to appropriate Federal, State, and local agencies, and to private organizations and citizens who have previously expressed or are known to have interest in this proposal. In addition, agencies will be invited by letter to attend a formal Scoping Meeting with a field view. Prior to seeking FHWA approval to circulate the Draft EIS, an additional POB and PIC will be held within the project area. Thence, upon obtaining FHWA approval to circulate the Draft EIS, a Public Hearing will be held within the project area. The Draft EIS will be available for public and agency review and comment prior to the Public Hearing. Public notice will be given of the time and place of all meetings and the public hearing. To ensure that the full range of issues related to this proposed action is addressed and all significant issues are identified, comments and suggestions are invited from all interested parties. Comments or questions concerning this proposed action should be directed to the FHWA contact person identified in the address provided above.

(Catalog of Federal Domestic Assistance Program Number 20.205, Highway Planning and Construction. The regulations implementing Executive Order 12372 regarding intergovernmental consultation on Federal programs and activities apply to this program.)

Issued on November 14, 2006.
David Hawk,
Program Operations Director.

[FR Doc. E6-19844 Filed 11-22-06; 8:45 am]

BILLING CODE 4910-22-P